DEPARTMENT OF TRANSPORTATION

Coast Guard

33 CFR Part 117

[CGD05-01-065]

Drawbridge Operation Regulations; Southern Branch of the Elizabeth River, Atlantic Intracoastal Waterway, Chesapeake, VA

AGENCY: Coast Guard, DOT.

ACTION: Notice of temporary deviation from regulations.

SUMMARY: The Commander, Fifth Coast Guard District, has approved a temporary deviation from the regulations governing the operation of the Gilmerton Highway Drawbridge across the Southern Branch of the Elizabeth River, mile 5.8, in Chesapeake, Virginia. The temporary deviation allows the bridge to remain closed from October 17 through December 16, 2001, unless the vessel requesting an opening provides one-hour advance notice to the bridge tender. This change in regulation is necessary to perform needed repairs to the opening spans of the drawbridge.

DATES: This deviation is effective from 9 p.m. on October 17 until 5 a.m. on December 16, 2001.

FOR FURTHER INFORMATION CONTACT: Ann B. Deaton, Bridge Administrator, Fifth Coast Guard District, at (757) 398-6222.

SUPPLEMENTARY INFORMATION: On September 17, 2001, the City of Chesapeake requested a temporary deviation from the current operating schedule of the Gilmerton Highway bridge set out in 33 CFR 117.997(d). The City of Chesapeake requested this deviation to perform repairs to the bridge that would raise vehicular weight restrictions to allow limited use by heavier trucks.

In accordance with 33 CFR 117.35, the District Commander approved the City of Chesapeake's request for a temporary deviation from the governing regulations in a letter dated September 20, 2001.

The Coast Guard has informed the known commercial users of the waterway of the change to the regulations concerning this bridge so that these vessels can arrange their transits to minimize any impact caused by the temporary deviation.

The temporary deviation allows the Gilmerton Highway bridge across the Southern Branch of the Elizabeth River, mile 5.8, to remain closed from 9 p.m. eastern time on October 17, through 5 a.m. eastern time on December 16, 2001, except that the draw shall open during this closure period with a one-hour advance notice to the bridge tender.

Dated: October 2, 2001.
T.W. Allen,
Vice Admiral, U.S.C.G., Commander, Fifth Coast Guard District.

[FR Doc. 01-25906 Filed 10-12-01; 8:45 am]

BILLING CODE 4910-15-U